DEPARTMENT OF COMMERCE

National Oceanic and Atmospheric Administration

50 CFR Part 679

[I.D. 111903A]

RIN 0648-AR73

Fisheries of the Exclusive Economic Zone Off Alaska; Skates Management in the Groundfish Fisheries of the Gulf of Alaska

AGENCY: National Marine Fisheries Service (NMFS), National Oceanic and Atmospheric Administration (NOAA), Commerce.

ACTION: Notice of availability; request for comments.

SUMMARY: The North Pacific Fishery Management Council (Council) has submitted Amendment 63 to the Fishery Management Plan for Groundfish of the Gulf of Alaska (FMP). If approved, Amendment 63 would move skates from the “other species” list to the “target species” list in the FMP. By listing skates as a target species, a directed fishery for skates in the Gulf of Alaska (GOA) may be managed to reduce the potential for overfishing skates. This action is intended to promote the goals and objectives of the Magnuson-Stevens Fishery Conservation and Management Act (Magnuson-Stevens Act), the FMP, and other applicable laws. Comments from the public are welcome.

DATES: Comments on Amendment 63 must be submitted by February 2, 2004.

ADDRESSES: Comments on the FMP amendment should be sent to Sue Salveson, Assistant Regional Administrator, Sustainable Fisheries Division, Alaska Region, NMFS, P.O. Box 21668, Juneau, AK 99802, Attn: Lori Durall, or delivered to room 420 of the Federal Building, 709 West 9th Street, Juneau, AK. Comments also may be sent via facsimile (fax) to 907-586-7557. Comments will not be accepted if submitted via e-mail or Internet. Copies of Amendment 63 and the Environmental Assessment/Regulatory Impact Review/Initial Regulatory Flexibility Analysis (EA/RIR/IRFA) for the amendment may be obtained from the same address.

FOR FURTHER INFORMATION CONTACT: Melanie Brown, 907-586-7228 or melanie.brown@noaa.gov.

SUPPLEMENTARY INFORMATION: The Magnuson-Stevens Act requires that each Regional Fishery Management Council submit any FMP amendment it prepares to NMFS for review and approval, disapproval, or partial approval. The Magnuson-Stevens Act also requires that NMFS, upon receiving an FMP amendment, immediately publish a notice in the Federal Register that the amendment is available for public review and comment.

The Council unanimously adopted Amendment 63 in October 2003. If approved by NMFS, this amendment would move skates from the “other species” list to the “target species” list, allowing the management of skates as a target species. NMFS trawl survey and catch information show that of the 14 skate species occurring in the Gulf of Alaska, the majority of the catch is made up of big and longnose skate species. The big skates and longnose skates would be listed under the skates category in the target species list to allow for management of these individual species.

Skates currently are managed as part of the other species complex with sharks, sculpins, octopus, and squid. The total allowable catch limit (TAC) for this complex is five percent of the aggregate of all TACs for target groundfish species or species groups of the GOA. Target species TACs are established for an individual species or species group, and NMFS manages the directed fishery for these species to avoid exceeding the specified TACs. TACs usually are set at or below the acceptable biological catch (ABC) limits, which are below the overfishing levels (OFLs) for each target species or species group. The other species complex does not have an OFL or ABC limit due to the lack of stock assessment information for most of the species in the complex.

In 2003, a directed fishery for skates rapidly developed in the GOA. The 2003 skates harvest was 3,042 metric tons (mt) compared to 782 mt of skates harvested in 2002. Because skates are managed within the other species complex, the full TAC for the other species complex is available for a directed fishery for skates.

To reduce the potential for overfishing, the Council recommended that skates be managed as a target species. As a target species, OFL, ABC, and TAC amounts for skates would be established by annual harvest specifications, allowing for more effective management of skates based on the best available scientific information. The development of OFL, ABC, and TAC amounts for the 2004 harvest specifications for skates would be based on scientific survey and harvest information from 2003 and prior years. Managing a directed fishery for skates so that OFL, ABC, and TAC amounts are not exceeded would reduce the potential for overfishing and would meet the conservation objectives of the Magnuson-Stevens Act.

Public comments are being solicited on proposed Amendment 63 through the end of the comment period stated (see DATES). A proposed rule that would implement the amendment may be published in the Federal Register for public comment at a later date. Public comments on the proposed rule must be received by the end of the comment period on the amendment in order to be considered in the approval/disapproval decision on the amendment. All comments received by the end of the comment period on the amendment, whether specifically directed to the amendment or to the proposed rule, will be considered in the approval/disapproval decision. Comments received after that date will not be considered in the approval/disapproval decision on the amendment. To be considered, comments must be received not just postmarked or otherwise transmitted by close of business on the last day of the comment period.

Dated: November 25, 2003.
Bruce C. Morehead,
Acting Director, Office of Sustainable Fisheries, National Marine Fisheries Service.

[FR Doc. 03-29940 Filed 12-1-03; 8:45 am]

BILLING CODE 3510-22-S